FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—10/01/2008
20081732 | Robert B. Cohen | Dufry AG | Dufry AG.
20081805 | GTEL Holding LLC | GTEL Holdings, Inc | GTEL Holdings, Inc.
Transactions Granted Early Termination—10/03/2008
20081590 | Donald E. Graham | General Electric Company | NBC Stations Management II, Inc., NBC Subsidiary, (WTVJ-TV), Inc., NBC Universal, Inc.
20081749 | Arch Chemicals, Inc | Rockwood Holdings, Inc | Advantis Technologies, Inc.
20081804 | EPCOR Power L.P | Mitsubishi Corporation | Morris Cogeneration, LLC.
20081807 | Opnext, Inc | StrataLight Communications, Inc | StrataLight Communications, Inc.
20081808 | Rock Hill Telephone Company | Citizens Telephone Company | Citizens Telephone Company.
20081810 | ES Media Works Fund I, LP | Commonwealth Bank of Australia | First State Media Group Limited.
20081813 | DSMUS Trust | Robert C. McNair | Stonerside Stable LLC.
20081826 | Mitsubishi UFJ Financial Group, Inc | Morgan Stanley | Morgan Stanley.
Transactions Granted Early Termination—10/06/2008
20081747 | H&R Block, Inc | Michael Dean Merriman 1965-A Trust | Block Management, LLC, H&R Block, LLC, HRBO III, LLC, HRBO, LLC.
20081748 | H&R Block, Inc | Pamela Jo Merriman 1965-A Trust | Block Management, LLC, H&R Block, LLC, HRBO III, LLC, HRBO, LLC.
20081754 | H&R Block, Inc | H&R Block of Houston, LLC | Houston Block, L.C.
20081761 | John K. Delaney | CapitalSource Inc | CapitalSource Inc.
Transactions Granted Early Termination—10/07/2008
20081792 | USPF III Leveraged Feeder, L.P | Peter H. Zeliff, Sr | Innovative Energy Systems, LLC.
20081799 | IHS Inc | Joseph E. Kasputys | Global Insight, Inc.
20081818 | William S. Morris III and Mary Sue Ellis Morris | Rocco B. Commisso | SplitCo.
Transactions Granted Early Termination—10/09/2008
20081786 | Inversion Corporativa I.C., S.A | DTN Holding Company, Inc | DTN Holding Company, Inc.
20081789 | Zimmer Holdings, Inc | Abbott Laboratories | Abbott Spine, Inc.
20081816 | ASP IV Alternative Investments, L.P | Liberty Tire Services, LLC | Liberty Tire Services, LLC.
20090021 | Wells Fargo & Company | Wachovia Corporation | Wachovia Corporation.
Transactions Granted Early Termination—10/10/2008
20081830 | Sappi Limited | Metsaliitto Cooperative | M-real Corporation.
20081831 | Foot Locker, Inc | dELIA's, Inc | dELIA's, Inc.
20081832 | Enterprise Products Partners L. P | EnCana Corporation | Great Divide Gathering, LLC.
20090013 | GHL Acquisition Corp | Iridium Holdings LLC | Iridium Holdings LLC.
Transactions Granted Early Termination—10/14/2008
20081763 | GDF SUEZ | FirstLight Power Enterprises, Inc | FirstLight Power Enterprises, Inc.
20081822 | Westinghouse Air Brake Technologies Corporation | Russell Enterprises, Inc | Standard Car Truck Company.
20081827 | Bank of America Corporation | Merrill Lynch & Co., Inc | Merrill Lynch & Co., Inc.
Transactions Granted Early Termination—10/15/2008
20081800 | Kuwait Petroleum Corporation | K-Dow Petrochemicals C.V | K-Dow Petrochemicals C.V.
20081823 | Cameron International Corporation | Kenneth L. Bums, II | Burnsco Blowout Preventer Sales & Service, Inc., Hitech, Inc. Kencoy, Inc., Melco Blowout Preventer Specialties, Inc., Townsend International BOPs, Inc.
20090006 | McAfee, Inc | Secure Computing Corporation | Secure Computing Corporation.
Transactions Granted Early Termination—10/16/2008
20081793 | Altria Group, Inc | UST Inc | UST Inc.
20081794 | The Voting Trust | Morgan Stanley | Cournot Financial Products LLC.
20090012 | Equity Investor Acquisition LLC | Estate of Anthony A. Martino | Hatboro Cosmollision, Inc., Maaco Enterprises, Inc.
20090020 | BTG plc | Protherics plc | Protherics plc.

For Further Information Contact: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E8-26037 Filed 10-30-08; 8:45 am]

BILLING CODE 6750-01-M